DEPARTMENT OF ENERGY

Federal Energy Regulatory Commission

Notice of Intent To File Application for a New License

February 17, 2000.

Take notice that the following notice of intent has been filed with the Commission and is available for public inspection:

a. Type of filing: Notice of intent to file an application for new license.

b. Project No.: 2630.

c. Date filed: January 12, 2000.

d. Submitted By: PacifiCorp, current licensee.

e. Name of Project: Prospect Nos. 1, 2, and 4.

f. Location: On the Rogue River and tributaries in Jackson County, Oregon.

g. Filed Pursuant to: Section 15 of the Federal Power Act, 18 CFR 16.6.

h. Pursuant to Section 16.19 of the Commission's regulations, the licensee is required to make available the information described in Section 16.7 of the regulations. Such information is available from the licensee at Suite 1500, 825 N.E. Multnomah, Portland, OR 97232. Contact Todd Olson on (503) 813-6657.

i. FERC Contact: Héctor M. Pérez, (202) 219-2843, hector.perez@ferc.fed.us.

j. Effective Date of Current License: May 1, 1965.

k. Expiration Date of Current License: July 1, 2005.

l. The project consists of three concrete diversion dams, a water conveyance system with approximately 9.25 miles of waterways, and three powerhouses with a total installed capacity of 20.76 megawatts.

m. The licensee states its unequivocal intent to file an application for a new license for this project. Pursuant to 18 CFR 16.9(b)(1), all applications for a new license must be filed with the Commission at least 24 months prior to the expiration of the existing license. All applications for license for this project must be filed by June 20, 2003.

n. A copy of the notice of intent is available for inspection and reproduction at the Commission's Public Reference Room, located at 888 First Street, NE, Room 2A, Washington, DC 20426, or by calling (202) 208-1371. The notice may be viewed on http://www.ferc.fed.us/online/rims.htm (call (202) 208-2222 for assistance). A copy is also available for inspection and reproduction at the address in item h above.

David P. Boergers,
Secretary.

[FR Doc. 00-4323 Filed 2-23-00; 8:45 am]

BILLING CODE 6717-01-M